DEPARTMENT OF THE INTERIOR

Fish and Wildlife Service

Endangered and Threatened Species Permit Application

AGENCY: Fish and Wildlife Service, Interior.

ACTION: Notice of receipt of application.

The following applicant has applied for scientific research permits to conduct certain activities with endangered species pursuant to sections 10(a)(1)(A) and 10(c) of the Endangered Species Act of 1973, as amended (16 U.S.C. 1531, et seq.).

Permit Number TE838055-8

Applicant: Ecological Specialists, Inc., St. Peters, Missouri

The applicant requests an amendment to existing endangered species take permit number TE838055-7 to increase the scope of covered activities to include projects in the State of Michigan. The existing permit authorizes the applicant to take endangered and threatened unionids throughout ten states. The scientific research is aimed at enhancement of survival of the species in the wild.

Written data or comments should be submitted to the Regional Director, U.S. Fish and Wildlife Service, Ecological Services Operations, 1 Federal Drive, Fort Snelling, Minnesota 55111-4056, and must be received within 30 days of the date of this publication.

Documents and other information submitted with this application are available for review by any party who requests a copy from the following office within 30 days of the date of publication of this notice: U.S. Fish and Wildlife Service, Ecological Services Operations, 1 Federal Drive, Fort Snelling, Minnesota 55111-4056, peter_fasbender@fws.gov, telephone (612) 713-5343, or Fax (612) 713-5292.

Dated: May 25, 2001.
T.J. Miller,
Acting, Assistant Regional Director,, Ecological Services, Region 3, Fort Snelling, Minnesota.

[FR Doc. 01-14053 Filed 6-4-01; 8:45 am]

BILLING CODE 4310-55-P